DEPARTMENT OF ENERGY

Federal Energy Regulatory Commission

[Docket No. RD16-6-000]

Proposed Consolidated Information Collection Activities [FERC-725A(1B) and FERC-725Z]; Comment Request

AGENCY: Federal Energy Regulatory Commission, Department of Energy.

ACTION: Comment request.

SUMMARY: In compliance with the requirements of the Paperwork Reduction Act of 1995, the Federal Energy Regulatory Collection (Commission or FERC) is submitting FERC-725A(1B) (Mandatory Reliability Standards for the Bulk Power System) and FERC-725AZ (Mandatory Reliability Standards: IRO Reliability Standards), in Docket No. RD16-6 to the Office of Management and Budget (OMB) for review of the information collection requirements. Any interested person may file comments directly with OMB and should address a copy of those comments to the Commission as explained below. The Commission issued a Notice in the Federal Register (81 FR 66952, 9/29/2016) requesting public comments. FERC received no comments in response to FERC-725A(1B) or FERC-725Z and is making this notation in the submittal to OMB.

DATES: Comments on the collection of information are due by January 27, 2017.

ADDRESSES: Comments filed with OMB, identified by RD16-6-000, FERC-725Z (OMB Control No. 1902-0276), and FERC-725A(1B) (OMB Control No. TBD), should be sent via email to the Office of Information and Regulatory Affairs: oira_submission@omb.gov. Attention: Federal Energy Regulatory Commission Desk Officer. The Desk Officer may also be reached via telephone at 202-395-4718.

A copy of the comments should also be sent to the Commission, in Docket No. RD16-6, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Authority: 44 U.S.C. 3507(a)(1)(D).

Title: FERC-725A(1B), (Mandatory Reliability Standards for the Bulk Power System).

OMB Control No.: TBD.

Type of Request: Three-year extension of FERC-725A(1B) information collection requirement with no changes to the reporting requirements.

Abstract: Under section 215 of the Federal Power Act (FPA),¹ the Commission proposes to approve Reliability Standards TOP-010-1 (Real-time Reliability Monitoring and Analysis Capabilities) and IRO-018-1 (Reliability Coordinator Real-time Reliability Monitoring and Analysis Capabilities), submitted by North American Electric Corporation (NERC). In this order, the Reliability Standards build on monitoring, real-time assessments and support effective situational awareness. The Reliability Standards accomplish this by requiring applicable entities to: (1) Provide notification to operators of real-time monitoring alarm failures; (2) provide operators with indications of the quality of information being provided by their monitoring and analysis capabilities; and (3) address deficiencies in the quality of information being provided by their monitoring and analysis capabilities.

¹ Section 215 was added by the Energy Policy Act of 2005, Public Law 109-58, 119 Stat. 594 (2005) (codified at 16 U.S.C. 824o).

FERC-725A(1B) address situational awareness objectives by providing for operator awareness when key alarming tools are not performing as intended. These collections will improve real-time situational awareness capabilities and enhance reliable operations by requiring reliability coordinators, transmission operators, and balancing authorities to provide operators with an improved awareness of system conditions analysis capabilities, including alarm availability, so that operators may take appropriate steps to ensure reliability. These functions include planning, operations, data sharing, monitoring, and analysis.

Type of Respondents: Balancing Authority (BA),Transmission Operations (TOP) and Reliability Coordinators (RC).

Estimate of Annual Burden ²: The Commission estimates the annual public reporting burden for the information collection as:

² Burden is the total time, effort, or financial resources expended by persons to generate, maintain, retain, or disclose or provide information to or for a Federal agency. For further explanation of what is included in the information collection burden, reference 5 Code of Federal Regulations 1320.3.

FERC-725A(1B), Changes Due to TOP-010-1 in Docket No. RD16-6-000
Entity | Requirements & period | Number of respondents ³ | Annual number of responses per respondent | Total number of Responses | Average burden & cost per response ⁴ | Total annual burden hours & total annual cost | Cost per respondent ($)
|  | (1) | (2) | (1) * (2) = (3) | (4) | (3) * (4) = (5) | (5) ÷ (1)
BA ⁵ | Year 1 Implementation (one-time reporting) | 100 | 1 | 100 | 70 hrs.; $4,494.00 | 7,000 hrs.; $449,400.00 | $4,494.00
| Starting in Year 2 (annual reporting) | 100 | 1 | 100 | 42 hrs.; $2,696.40 | 4,200 hrs.; $269,640.00 | 2,696.40
TOP ⁶ | Year 1 implementation (one-time reporting) | 171 | 1 | 171 | 70 hrs.; $4,494.00 | 11,970 hrs.; $768,474.00 | 4,494.00
| Starting in Year 2 (annual reporting) | 171 | 1 | 171 | 40 hrs. $2,568.00 | 6,840 hrs.; $439,128.00 | 2,568.00
BA/TOP | Annual Record Retention | 271 | 1 | 271 | 2 hrs.; $75.38 | 542 hrs.; $20,427.98 | 75.38
Total burden hours per year |  |  |  |  |  | 19,512 hrs. $1,238,301.98 (Year 1); 11,582 hrs. $729,195.98 per year, (starting in Year 2) |

Title: FERC-725Z, Mandatory Reliability Standards: IRO Reliability Standards.

³ The number of respondents is the number of entities in which a change in burden from the current standards to the proposed exists, not the total number of entities from the current or proposed standards that are applicable.

⁴ The estimated hourly costs (salary plus benefits) are based on Bureau of Labor Statistics (BLS) information, as of May 2015 (at http://www.bls.gov/oes/current/naics2_22.htm, with updated benefits information for March 2016 at http://www.bls.gov/news.release/ecec.nr0.htm), for an electrical engineer (code 17-2071, $64.20/hour), and for information and record clerks record keeper (code 43-4199, $37.69/hour). The hourly figure for engineers is used for reporting; the hourly figure for information and record clerks is used for document retention.

⁵ Balancing Authority (BA). The following Requirements and associated measures apply to balancing authorities: Requirement R1: A revised data specification and writing the required operating process/operating procedure; and Requirement R2: Quality monitoring logs and the data errors and corrective action logs.

⁶ Transmission Operations (TOP). The following Requirements and associated measures apply to transmission operators: Requirement R1: A revised data specification and writing the required operating process/operating procedure; and Requirement R3: Alarm process monitor performance logs to maintain performance logs and corrective action plans.

OMB Control No.: 1902-0276.

Type of Request: Three-year extension of FERC-725Z information collections requirement with no changes to the reporting requirements.

Abstract: FERC-725Z requires reliability coordinators to have an alarm process monitor that provides notification to system operators when the failure of a real-time monitoring alarm processor has occurred. Proposed Reliability Standard TOP-010-1, Requirement R4 contains an identical requirement applicable to transmission operators and balancing authorities. This collection will improve real-time situational awareness capabilities and enhance reliable operations by requiring reliability coordinators, transmission operators, and balancing authorities to provide operators with an improved awareness of system conditions analysis capabilities, including alarm availability, so that operators may take appropriate steps to ensure reliability. These functions include planning, operations, data sharing, monitoring, and analysis.

Type of Respondents: Balancing Authority and Transmission Operations.

Estimate of Annual Burden: The Commission estimates the annual public reporting burden for the information collection as:

FERC-725Z, Changes Due to Reliability Standard IRO-018-1
Entity | Requirements & period | Number of respondents ⁷ | Annual number of responses per respondent | Total number of responses | Average burden & cost per response ⁸ | Total annual burden hours & total annual cost | Cost per respondent ($)
|  | (1) | (2) | (1) * (2) = (3) | (4) | (3) * (4) = (5) | (5) ÷ (1)
RC ⁹ | Year 1 Implementation (reporting) | 11 | 1 | 11 | 60 hrs.; $3,852.00 | 660 hrs.; $42,372.00 | $3,852.00

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁷ The number of respondents is the estimated number of entities for which there is a change in burden from the current standards to the proposed standards, not the total number of entities from the current or proposed standards that are applicable.

⁸ The estimated hourly costs (salary plus benefits) are based on Bureau of Labor Statistics (BLS) information, as of May 2015 (at http://www.bls.gov/oes/current/naics2_22.htm, with updated benefits information for March 2016 at http://www.bls.gov/news.release/ecec.nr0.htm), for an electrical engineer (code 17-2071, $64.20/hour), and for information and record clerks (code 43-4199, $37.69/hour). The hourly figure for engineers is used for reporting; the hourly figure for information and record clerks is used for document retention.

⁹ Reliability Coordinator (RC). The following Requirements and the associated measures apply to RCs: Requirement R1: A revised data specification and writing the required operating Process/Operating Procedure; Requirement R2: Quality monitoring logs and the data errors and corrective action logs; and Requirement R3: Alarm process monitor performance logs.

¹⁰ There is a DLO for Docket No. RD16-6-001, Revisions to the Violation Risk Factors for Reliability Standards, approving the directed changes to VRF designations in IRO-018-1 and TOP-010-1.

Dated: December 20, 2016.
Nathaniel J. Davis, Sr.,
Deputy Secretary.

[FR Doc. 2016-31294 Filed 12-27-16; 8:45 am]

BILLING CODE 6717-01-P